ENVIRONMENTAL PROTECTION AGENCY

[FRL-8230-7; Docket ID No. EPA-HQ-ORD-2006-0756]

Evaluation of the Carcinogenicity of Ethylene Oxide

Correction

In notice document E6-16921 beginning on page 60143 in the issue of Thursday, October 12, 2006, make the following correction:

On page 60143, in the second column, under the heading “SUMMARY“, in the 26th line, the sentence “It does not determination.” should read “It does not represent and should not be construed to represent any Agency policy or determination.”.

[FR Doc. Z6-16921 Filed 10-19-06; 8:45 am]

BILLING CODE 1505-01-D

DEPARTMENT OF THE INTERIOR

Mineral Management Service

30 CFR Parts 250 and 251

RIN 1010-AC81

Oil and Gas and Sulphur Operations in the Outer Continental Shelf (OCS)- Geological and Geophysical (G&G) Explorations of the OCS- Proprietary Terms and Data Disclosure

Correction

In rule document 06-3009 beginning on page 16033 in the issue of Thursday, March 30, 2006, make the following corrections:

§ 251.14 [Corrected]

On page 16040, in the first column, in § 251.14(b)(1), under the table heading “If you or a third party submit and MMS retains * * *”, in the third line, “Geophysical data” should read “(ii) Geophysical data”.

In the fourth line of the same column, “Geophysical information” should read “(iii)Geophysical information”.

[FR Doc. C6-3009 Filed 10-19-06; 8:45 am]

BILLING CODE 1505-01-D

SECURITIES AND EXCHANGE COMMISSION

[Release No. 34-545771; File No. SR-ISE-2006-56]

Self-Regulatory Organizations; International Securities Exchange, LLC; Notice of Filing of a Proposed Rule Change and Admendment No. 1 Relating to Customer Fees for Certain Complex Orders

Correction

In notice document 06-8646 beginning on page 60593 in the issue of Friday, October 13, 2006, make the following correction:

On page 60593, in the first column, under the Agency heading, in the Agency number, “34-545771” should read “34-54571”.

[FR Doc. C6-8646 Filed 10-19-06; 8:45 am]

BILLING CODE 1505-01-D

DEPARTMENT OF THE TREASURY

Fiscal Service

31 CFR Part 256

RIN 1510-AA52

Obtaining Payments From the Judgment Fund and Under Private Relief Bills

Correction

In rule document E6-17229 beginning on page 60848 in the issue of Tuesday, October 17, 2006 make the following correction:

§ 256.50 [Corrected]

On page 60851, in the second column, § 256.50(a) should read as follows:

§256.50 How does FMS process back pay awards?

The submitting agency may request one of two methods to process back pay awards.

(a) One method has three parts. The first part is a payment of net back pay (and interest if authorized), which is sent to the plaintiff or to the plaintiff's attorney, as directed by the submitting agency. The second part is a payment to the agency of deductions from the net back pay. The third part is a payment of attorney fees, which is sent directly to the attorney.

[FR Doc. Z6-17229 Filed 10-19-06; 8:45 am]

BILLING CODE 1505-01-D